DEPARTMENT OF TRANSPORTATION

Federal Aviation Administration

14 CFR Part 39

[Docket No. 2004-NE-05-AD; Amendment 39-14706; AD 2006-16-06]

RIN 2120-AA64

Airworthiness Directives; General Electric Company (GE) CF6-80 Series Turbofan Engines

AGENCY: Federal Aviation Administration (FAA), Department of Transportation (DOT).

ACTION: Final rule; request for comments.

SUMMARY: The FAA is superseding an existing airworthiness directive (AD) for GE CF6-80 series turbofan engines with certain stage 1 high-pressure turbine (HPT) rotor disks. That AD currently requires an initial inspection as a qualification for the mandatory rework procedures for certain disks, and repetitive inspections only for certain disks for which the rework procedures were not required. That action also requires reworking certain disks before further flight, and removes certain CF6-80E1 series disks from service. This AD requires the same actions but shortens the compliance schedule for HPT disks that have not been previously inspected using AD 2004-04-07, which this AD supersedes. This AD results from a recent report of an uncontained failure of a stage 1 HPT disk. We are issuing this AD to detect and prevent cracks in the bottoms of the dovetail slots that could propagate to failure of the disk and cause an uncontained engine failure.

DATES: Effective September 5, 2006. The Director of the Federal Register approved the incorporation by reference of certain publications listed in the regulations as of September 5, 2006. The Director of the Federal Register previously approved the incorporation by reference of certain other publications listed in the regulations as of March 12, 2004 (69 FR 8801, February 26, 2004).

We must receive any comments on this AD by October 17, 2006.

ADDRESSES: Use one of the following addresses to submit comments on this ad:

• By mail: Federal Aviation Administration (FAA), New England Region, Office of the Regional Counsel, Attention: Rules Docket No. 2004-NE-05-AD, 12 New England Executive Park, Burlington, MA 01803.

• By fax: (781) 238-7055.

• By e-mail: 9-ane-adcomment@faa.gov.

Contact General Electric Company via Lockheed Martin Technology Services, 10525 Chester Road, Suite C, Cincinnati, Ohio 45215, telephone (513) 672-8400, fax (513) 672-8422, for the service information identified in this AD.

You may examine the AD docket, by appointment, at the FAA, New England Region, Office of the Regional Counsel, 12 New England Executive Park, Burlington, MA. You may examine the service information, by appointment, at the FAA, New England Region, Office of the Regional Counsel, 12 New England Executive Park, Burlington, MA.

FOR FURTHER INFORMATION CONTACT: James Lawrence, Aerospace Engineer, Engine Certification Office, FAA, Engine and Propeller Directorate, 12 New England Executive Park, Burlington, MA 01803; telephone: (781) 238-7176, fax: (781) 238-7199.

SUPPLEMENTARY INFORMATION: On February 13, 2004, we issued AD 2004-04-07, Amendment 39-13488 (69 FR 38; February 26, 2004). That AD requires an initial inspection as a qualification for the mandatory rework procedures for certain disks, and repetitive inspections only for certain disks for which the rework procedures were not required. That action also requires reworking certain disks before further flight. That AD was the result of the manufacturer's investigation and development of a rework procedure to chamfer the aft breakedge of the dovetail slot bottom to reduce stresses. That condition, if not corrected, could result in cracks in the bottoms of the dovetail slots that could propagate to failure of the disk and cause an uncontained engine failure.

Actions Since AD 2004-04-07 Was Issued

Since AD 2004-04-07 was issued, a CF6-80A turbofan engine, installed on a Boeing 767 airplane, experienced an uncontained stage 1 HPT disk failure on June 2, 2006. The disk failure resulted in a fire and significant damage to the airplane. The event occurred during an on-ground maintenance operation.

Relevant Service Information

We reviewed and approved the technical contents of the following GE Service Bulletins (SBs) and Alert Service Bulletin (ASB) that describe procedures for removing, inspecting, and reworking certain stage 1 HPT rotor disks:

• SB No. CF6-80E1 S/B 72-0251, dated January 22, 2004;

• SB No. CF6-80A S/B 72-0779, Revision 1, dated January 22, 2004;

• SB No. CF6-80A S/B 72-0788, Revision 3, dated July 20, 2006;

• SB No. CF6-80A S/B 72-0822, dated July 20, 2006;

• ASB No. CF6-80C2 S/B 72-A1026, Revision 2, dated January 22, 2004;

• SB No. CF6-80C2 S/B 72-1089, Revision 3, dated July 20, 2006;

• SB No. CF6-80C2 S/B 72-1217, dated July 20, 2006.

FAA's Determination and Requirements of This AD

The unsafe condition described previously is likely to exist or develop on other GE CF6-80 series turbofan engines of the same type design. This AD requires rework of the dovetail slot bottom of certain stage 1 rotor disks. The disks must pass an inspection to qualify for the rework. This AD also requires removal from service of certain disks for which the rework procedures were not previously required. This AD also tightens the compliance schedule for HPT disks that have not been previously inspected using AD 2004-04-07. Operators must use the compliance schedule carried forward from AD 2004-04-07 or the new compliance schedule below, whichever occurs first:

• For stage 1 HPT rotor disks with 9,000 or more cycles-since-new (CSN) on the effective date of this AD, within 250 cycles-in-service (CIS) after the effective date of this AD, or by March 31, 2007, whichever occurs first.

• For stage 1 HPT rotor disks with 6,900 or more but fewer than 9,000 CSN on the effective date of this AD, within 500 CIS after the effective date of this AD, or before accumulating 9,250 CSN, or by December 31, 2007, whichever occurs first.

• For stage 1 HPT rotor disk with fewer than 6,900 CSN on the effective date of this AD, before accumulating 7,400 CSN, or by December 31, 2008, whichever occurs first.

This AD also removes from service certain CF6-80E1 series disks. You must use the service information described previously to perform the actions required by this AD.

FAA's Determination of the Effective Date

Since an unsafe condition exists that requires the immediate adoption of this AD, we have found that notice and opportunity for public comment before issuing this AD are impracticable, and that good cause exists for making this amendment effective in less than 30 days.

Comments Invited

This AD is a final rule that involves requirements affecting flight safety and was not preceded by notice and an opportunity for public comment; however, we invite you to submit any written relevant data, views, or arguments regarding this AD. Send your comments to an address listed under ADDRESSES. Include “AD Docket No. 2004-NE-05-D” in the subject line of your comments. If you want us to acknowledge receipt of your mailed comments, send us a self-addressed, stamped postcard with the docket number written on it; we will date-stamp your postcard and mail it back to you. We specifically invite comments on the overall regulatory, economic, environmental, and energy aspects of the rule that might suggest a need to modify it. If a person contacts us verbally, and that contact relates to a substantive part of this AD, we will summarize the contact and place the summary in the docket. We will consider all comments received by the closing date and may amend the AD in light of those comments.

Examining the AD Docket

You may examine the AD Docket (including any comments and service information), by appointment, between 8 a.m. and 4:30 p.m., Monday through Friday, except Federal holidays. See ADDRESSES for the location.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the National Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “AD Docket No. 2004-NE-05-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing Amendment 39-13488 (69 FR 8801; February 26, 2004), and by adding a new airworthiness directive, Amendment 39-14706, to read as follows:

2006-16-06 General Electric Company: Amendment 39-14706. Docket No. 2004-NE-05-AD.

Effective Date

(a) This airworthiness directive (AD) becomes effective September 5, 2006.

Affected ADs

(b) This AD supersedes AD 2004-04-07 (69 FR 8801; February 26, 2004).

Applicability

(c) This AD applies to the General Electric Company (GE) CF6-80 turbofan engine models listed in the following Table 1:

Table 1.—Applicability Models, Part Numbers, Airplanes
Models | Stage 1 high pressure turbine (HPT) rotor disk part numbers (P/Ns) | Engines installed on but not limited to
CF6-80A, CF6-80A1, CF6-80A2, CF6-80A3 | 9234M67G22/G24/G25/G26, 9362M58G02/G06/G07/G09, 9367M45G02/G04/G09 | Airbus A310 and Boeing 767 airplanes.
CF6-80C2A1, CF6-80C2A2, CF6-80C2A3, CF6-80C2A5, CF6-80C2A8, CF6-80C2A5F, CF6-80C2B1, CF6-80C2B2, CF6-80C2B4, CF6-80C2B6, CF6-80C2B1F, CF6-80C2B2F, CF6-80C2B4F, CF6-80C2B5F, CF6-80C2B6F, CF6-80C2B6FA, CF6-80C2B7F, CF6-80C2D1F | 1862M23G01, 9392M23G10/G12/G21, 1531M84G02/G06/G08/G10/G12 | Airbus A300, A310, Boeing 747, 767, and McDonnell Douglas MD11 airplanes.
CF6-80E1A2, CF6-80E1A4 | 1639M41P04 | Airbus A330 airplanes.

These engines are installed on, but not limited to, the airplanes listed in Table 1 of this AD.

Unsafe Condition

(d) This AD results from a recent report of an uncontained failure of a stage 1 HPT disk. The actions specified in this AD are intended to detect and prevent cracks in the bottoms of the dovetail slots that could propagate to failure of the disk and cause an uncontained engine failure.

Compliance

(e) You are responsible for having the actions required by this AD performed within the compliance times specified unless the actions have already been done.

CF6-80A, -80A1, -80A2, and -80A3 Engines

Stage 1 HPT Rotor Disks, P/N 9362M58G09, With Chamfered Breakedges

(f) At the next piece-part exposure, for stage 1 HPT rotor disks, P/N 9362M58G09, with serial numbers (SNs) listed in Table 2 of this AD, do the following, unless already done using superseded AD 2004-04-07:

Table 2.—SNs of CF6-80A Series Stage 1 HPT Rotor Disk P/N 9362M58G09—With Chamfered Breakedges
GWN03RD7
GWN03TKG
GWN03TKH
GWN03TKJ
GWN03W3M
GWN03W3N
GWN03W3R
GWN042J3
GWN04FW2
GWN04FW3
GWN04FW4
GWN04FW5
GWN04H0M
GWN04HRA
GWN04HRD
GWN04HRE
GWN04HRF
GWN04HRG
GWN04HRH
GWN04K8N
GWN04M9J
GWN04M9K
GWN04M9L
GWN04M9M
GWN04M9R
GWN04M9T
GWN04M9W

(1) Visually inspect the rotor disks for the presence of a chamfer on the aft breakedges of the dovetail slot bottoms. Use paragraph 3.A. of GE Service Bulletin (SB) No. CF6-80A S/B 72-0822, dated July 20, 2006, to do the inspection.

(2) For disks that have the chamfered breakedges, re-mark, fluorescent penetrant inspect (FPI), and eddy current inspect (ECI) the rotor disk. Use paragraph 3.A.(1) of the Accomplishment Instructions of GE SB No. CF6-80A S/B 72-0822, dated July 20, 2006, to re-mark and inspect the rotor disk and remove from service as necessary.

(3) For disks that do not have the chamfered breakedges, remove the disk from service. Use paragraph 3.A(2) of the Accomplishment Instructions of GE SB No. CF6-80A S/B 72-0822, dated July 20, 2006.

Stage 1 HPT Rotor Disks, P/Ns 9234M67G22, G24, G25, G26, 9367M45G04, G09, 9362M58G02, G06, G07, and 9362M58G09 with SNs not listed in Table 2 of this AD

(g) For stage 1 HPT rotor disks, P/Ns 9234M67G22, G24, G25, G26, 9367M45G04, G09, 9362M58G02, G06, G07, and 9362M58G09 with SNs not listed in Table 2 of this AD, inspect, rework, and re-mark the disks using paragraphs 3.A.(1) through 3.A.(2) of Accomplishment Instructions of GE SB No. CF6-80A S/B 72-0788, Revision 3, dated July 20, 2006, at the following, unless already done using superseded AD 2004-04-07:

(1) For both new and used stage 1 HPT rotor disks not installed in engines, inspect, rework, re-mark, and remove from service as necessary before further flight.

(2) For stage 1 HPT rotor disks that have been inspected using any version of GE SB No. CF6-80A S/B 72-0779, inspect, rework, re-mark, and remove from service as necessary at the next Engine Shop Visit (ESV) using the compliance times in the following Table 3:

Table 3.—Compliance Times for Inspection and Rework of CF6-80A Series Stage 1 HPT Rotor Disks, P/Ns 9234M67G22, G24, G25, G26, 9367M45G04, G09, 9362M58G02, G06, G07, and 9362M58G09 With SNs Not Listed in Table 2 of This AD—Previously Inspected
Stage 1 HPT rotor disk cycles-since-last-inspection (CSLI) on March 12, 2004 (effective date of superseded AD 2004-04-07) | Compliance time for inspection and rework
(i) More than 1,500 CSLI | At the next ESV after March 12, 2004 (effective date of superseded AD 2004-04-07), but not to exceed 4,500 CSLI.
(ii) 1,500 CSLI or fewer | At the next ESV after March 12, 2004 (effective date of superseded AD 2004-04-07), but not to exceed 3,500 CSLI.

(3) For stage 1 HPT rotor disks which have not been inspected using any version of GE SB No. CF6-80A S/B 72-0779, inspect, rework, re-mark, and remove from service as necessary using the following Table 4 or Table 4A compliance times, whichever occurs first:

Table 4.—Compliance Times for Inspection and Rework of CF6-80A Series Stage 1 HPT Rotor Disks, P/Ns 9234M67G22, G24, G25, G26, 9367M45G04, G09, 9362M58G02, G06, G07, and 9362M58G09 With SNs Not Listed in Table 2 of This AD—Not Previously Inspected
Stage 1 HPT rotor disk cycles-since-new (CSN) on the effective date of this AD | Compliance time for inspection and rework
(i) 9,000 or more CSN | Within 250 cycles-in-service (CIS) after the effective date of this AD, or by March 31, 2007, whichever occurs first.
(ii) 6,900 or more but fewer than 9,000 CSN | Within 500 CIS after the effective date of this AD, but before accumulating 9,250 CSN, or by December 31, 2007, whichever occurs first.
(iii) Fewer than 6,900 CSN | Before accumulating 7,400 CSN, or by December 31, 2008, whichever occurs first.

Table 4A.—Compliance Times for Inspection and Rework of CF6-80A Series Stage 1 HPT Rotor Disks, P/Ns 9234M67G22, G24, G25, G26, 9367M45G04, G09, 9362M58G02, G06, G07, and 9362M58G09 With SNs Not Listed in Table 2 of This AD—Not Previously Inspected
Stage 1 HPT rotor disk CSN on March 12, 2004 (effective date of superseded AD 2004-04-07) | Compliance time for inspection and rework
(i) 10,000 or more CSN | At the next ESV or within 1,000 CIS after March 12, 2004 (effective date of superseded AD 2004-04-07), whichever occurs first.
(ii) 5,000 or more CSN but fewer than 10,000 CSN | At the next ESV or within 2,400 CIS after March 12, 2004 (effective date of superseded AD 2004-04-07), whichever occurs first, but before accumulating 11,000 CSN.
(iii) Fewer than 5,000 CSN | At the next ESV or within 3,500 CIS after March 12, 2004 (effective date of superseded AD 2004-04-07), whichever occurs first, but before accumulating 7,400 CSN.

Stage 1 HPT Rotor Disks, P/N 9367M45G02

(h) For stage 1 HPT rotor disks, P/N 9367M45G02, remove the disk from service at the following times:

(1) For stage 1 HPT rotor disks not installed in engines, remove from service before further flight.

(2) For stage 1 HPT rotor disks that have been inspected before the effective date of this AD using any version of GE SB No. CF6-80A S/B 72-0779, and had more than zero CSN at the time of that inspection, remove from service at next ESV.

(3) For stage 1 HPT rotor disks that have not been inspected, or were only inspected with zero CSN before the effective date of this AD using any version of GE SB No. CF6-80A S/B 72-0779, remove from service using the following Table 5 or Table 5A compliance times, whichever occurs first:

Table 5.—Compliance Times for Removal of CF6-80A Series Stage 1 HPT Rotor Disks, P/N 9367M45G02—Not Previously Inspected
Stage 1 HPT rotor disk CSN on the effective date of this AD | Compliance time for removal
(i) 9,000 or more CSN | Within 250 CIS after the effective date of this AD, or by March 31, 2007, whichever occurs first.
(ii) 6,900 or more but fewer than 9,000 CSN | Within 500 CIS after the effective date of this AD, but before accumulating 9,250 CSN, or by December 31, 2007, whichever occurs first.
(iii) Fewer than 6,900 CSN | Before accumulating 7,400 CSN, or by December 31, 2008, whichever occurs first.

Table 5A.—Compliance Times for Removal of CF6-80A Series Stage 1 HPT Rotor Disks, P/N 9367M45G02—Not Previously Inspected
Stage 1 HPT rotor disk CSN on March 12, 2004 (effective date of superseded AD 2004-04-07) | Compliance time for removal
(i) 10,000 or more CSN | At the next ESV or within 1,000 CIS after March 12, 2004 (effective date of superseded AD 2004-04-07), whichever occurs first.
(ii) 5,000 or more CSN but fewer than 10,000 CSN | At the next ESV or within 2,400 CIS after March 12, 2004 (effective date of superseded AD 2004-04-07), whichever occurs first, but before accumulating 11,000 CSN.
(iii) Fewer than 5,000 CSN | At the next ESV or within 3,500 CIS after March 12, 2004 (effective date of superseded AD 2004-04-07), whichever occurs first, but before accumulating 7,400 CSN.

CF6-80C2 Series Engines

Stage 1 HPT Rotor Disks, P/N 1531M84G10, With Chamfered Breakedges, Group 1

(i) At the next piece-part exposure, for stage 1 HPT rotor disks, P/N 1531M84G10, with SNs listed in Table 6 (Group 1) of this AD, do the following, unless already done using superseded AD 2004-04-07:

Table 6.—SNs of CF6-80C2 Series Stage 1 HPT Rotor Disks, P/N 1531M84G10, With Chamfered Breakedges, Group 1
GWN03111
GWN03114
GWN031N2
GWN031N3
GWN031N4
GWN031N5
GWN031N6
GWN031N7
GWN031N8
GWN031N9
GWN031NA
GWN031NC
GWN032G1
GWN032G2
GWN032G3
GWN032G4
GWN032G5
GWN032G6
GWN032G7
GWN032G8
GWN032G9
GWN032GE
GWN0335P
GWN0335R
GWN033C5
GWN034KR
GWN034KT
GWN03501
GWN0350M
GWN0350N
GWN0350P
GWN0350R
GWN0350T
GWN0350W
GWN035M5
GWN035M6
GWN035M7
GWN035M8
GWN035M9
GWN035MA
GWN035MC
GWN035MD
GWN035TH
GWN035TJ
GWN035TK
GWN035TL
GWN035TM
GWN03699
GWN0369A
GWN0369C
GWN0369D
GWN0369E
GWN0369G
GWN0369H
GWN0369J
GWN036JG
GWN036JH
GWN036JJ
GWN036JK
GWN036JL
GWN036JM
GWN036JN
GWN03752
GWN03753
GWN03754
GWN03755
GWN03756
GWN03757
GWN03759
GWN0375A
GWN0375C
GWN0375D
GWN0375E
GWN037H2
GWN03981
GWN03982
GWN03983
GWN03984
GWN03985
GWN03986
GWN03987
GWN03988
GWN03989
GWN0398A
GWN0398C
GWN039PF
GWN039PG
GWN039PH
GWN039PJ
GWN039PK
GWN039PL
GWN039PM
GWN039PN
GWN03A4J
GWN03A4K
GWN03A4L
GWN03A4M
GWN03A4N
GWN03A4P
GWN03A4R
GWN03A4T
GWN03A4W
GWN03C12
GWN03C13
GWN03C14
GWN03CA0
GWN03DC9
GWN03DCA
GWN03DCC
GWN03DCD
GWN03DCE
GWN03DCF
GWN03DCG
GWN03DCH
GWN03DCJ
GWN03DCK
GWN03DCL
GWN03DCM
GWN03DCN
GWN03DCP
GWN03DCR
GWN03DME
GWN03DMF
GWN03ER7
GWN03ER8
GWN03ER9
GWN03ERA
GWN03FTN
GWN03FTP
GWN03FTR
GWN03FTT
GWN03FTW
GWN03FW0
GWN03H56
GWN03H57
GWN03H58
GWN03HTL
GWN03HTM
GWN03HTN
GWN03HTP
GWN03HTR
GWN03HTT
GWN03J8T
GWN03J8W
GWN03J91
GWN03J92
GWN03JNN
GWN03JNP
GWN03K3C
GWN03K3D
GWN03K3F
GWN03K3G
GWN03K3H
GWN03K3K
GWN03K3L
GWN03K3M
GWN03K3N
GWN03K3T
GWN03K3W
GWN03K40
GWN03K7R
GWN03KR1
GWN03KR3
GWN03KR4
GWN03KR6
GWN03KR7
GWN03KR8
GWN03KRC
GWN03L2D
GWN03L2E
GWN03L2F
GWN03LNF
GWN03LNJ
GWN03LNK
GWN03M88
GWN03M8C
GWN03M8E
GWN03M8J
GWN03M8K
GWN03NHN
GWN03NHP
GWN03NHR
GWN03R74
GWN03R76
GWN03R78
GWN03R7E
GWN03R7F
GWN03R9G
GWN03R9H
GWN03R9M
GWN03R9P
GWN03R9T
GWN03RA2
GWN03RA3
GWN03RA5
GWN03RA8
GWN03RPA
GWN03RPC
GWN03RPD
GWN04026
GWN0402A
GWN0402F
GWN0402L
GWN040R5
GWN04189
GWN0418A
GWN0418D
GWN0418E
GWN0418F
GWN0418H
GWN0418J
GWN0418L
GWN0418N
GWN0418R
GWN04366
GWN044DP
GWN0454H
GWN0454M
GWN0454N
GWN045T0
GWN045T2
GWN045T8
GWN045TD
GWN045TG
GWN04722
GWN04729
GWN047LK
GWN048CD
GWN048CF
GWN048CH
GWN048CJ
GWN048CK
GWN049GJ
GWN049M8
GWN049M9
GWN04AER
GWN04ALR
GWN04AM1
GWN04CGJ
GWN04CGN
GWN04CGT
GWN04CGW
GWN04CH3
GWN04CH5
GWN04CH8
GWN04CH9
GWN04D52
GWN04D54
GWN04D56
GWN04D57
GWN04D58
GWN04D59
GWN04DPW
GWN04E9K
GWN04E9L
GWN04E9M
GWN04EMA
GWN04EMK
GWN04EML
GWN04EMM
GWN04FTL
GWN04FTM
GWN04FTN

(1) Visually inspect the rotor disks for the presence of a chamfer on the aft breakedges of the dovetail slot bottoms. Use paragraph 3.A. of GE SB No. CF6-80C2 S/B 72-1217, dated July 20, 2006, to do the inspection.

(2) For disks that have the chamfered breakedges, re-mark, FPI, and ECI the rotor disk. Use paragraph 3.A.(1) of the Accomplishment Instructions of GE SB No. CF6-80C2 S/B 72-1217, dated July 20, 2006, to re-mark and inspect the rotor disk, and remove from service as necessary.

(3) For disks that do not have the chamfered breakedges, remove the disk from service. Use paragraph 3.A.(4) of the Accomplishment Instructions of GE SB No. CF6-80C2 S/B 72-1217, dated July 20, 2006.

CF6-80C2 Series Engines

Stage 1 HPT Rotor Disks, P/N 1531M84G10, With Chamfered Breakedges, Group 2

(j) For stage 1 HPT rotor disks, P/N 1531M84G10, with SNs listed in Table 6A of this AD, with chamfered breakedges, (Group 2):

(1) With more than 6,900 CSN, perform paragraphs (j)(3) through (j)(5) as applicable, at the next ESV, but within 500 CIS after the effective date of this AD, unless already done using superseded AD 2004-04-07.

(2) With 6,900 CSN or fewer, perform paragraphs (j)(3) through (j)(5) as applicable, at the next ESV, but before accumulating 7,400 CSN, unless already done using superseded AD 2004-04-07.

Table 6A.—SNs of CF6-80C2 Series Stage 1 HPT Rotor Disks, P/N 1531M84G10, With Chamfered Breakedges, Group 2
GWN03J90
GWN03K3R
GWN03K6J
GWN03K7T
GWN03KR2
GWN03KR5
GWN03KRA
GWN03KRD
GWN03M89
GWN03M8D
GWN03M8F
GWN03NHT
GWN03R73
GWN03R75
GWN03R77
GWN03R79
GWN03R7A
GWN03R7C
GWN03R7D
GWN03R7G
GWN03R7H
GWN03R9J
GWN03R9K
GWN03R9L
GWN03R9N
GWN03R9R
GWN03R9W
GWN03RA0
GWN03RA1
GWN03RA4
GWN03RA6
GWN03RA7
GWN03RP7
GWN03RP9
GWN03RPE
GWN03RPF
GWN03RPG
GWN04027
GWN04028
GWN04029
GWN0402E
GWN0402G
GWN0402H
GWN0402J
GWN0402K
GWN0402M
GWN0402N
GWN0402P
GWN0418C
GWN0418G
GWN0418K
GWN0418M
GWN0418P
GWN0418T
GWN0418W
GWN04190
GWN04191
GWN0454E
GWN0454F
GWN0454G
GWN0454J
GWN0454K
GWN0454L
GWN045T1
GWN045T3
GWN045T4
GWN045T5
GWN045T6
GWN045T7
GWN045T9
GWN045TA
GWN045TC
GWN045TE
GWN045TF
GWN045TH
GWN046F6
GWN046F7
GWN046F8
GWN04726
GWN047LG
GWN047LH
GWN047LJ
GWN047LL
GWN048CG
GWN048CM
GWN048CN
GWN048CP
GWN048CR
GWN049GH
GWN049GK
GWN049JL
GWN049JM
GWN049M7
GWN04AEP
GWN04AET
GWN04ALT
GWN04ALW
GWN04AM0
GWN04AM2
GWN04AM3
GWN04AM4
GWN04CGL
GWN04CHA
GWN04CHC
GWN04D55
GWN04DR4
GWN04DR9
GWN04DRE
GWN04DRJ
GWN04E9N
GWN04EM5
GWN04F8N
GWN04F8P
GWN04FTJ

(3) Visually inspect the rotor disks for the presence of a chamfer on the aft breakedges of the dovetail slot bottoms. Use paragraph 3.A. of GE SB No. CF6-80C2 S/B 72-1217, dated July 20, 2006, to do the inspection.

(4) For disks that have the chamfered breakedges, re-mark, FPI, and ECI the rotor disk. Use paragraph 3.A.(2) of the Accomplishment Instructions of GE SB No. CF6-80C2 S/B 72-1217, dated July 20, 2006, to re-mark and inspect the rotor disk, and remove from service as necessary.

(5) For disks that do not have the chamfered breakedges, remove the disk from service. Use paragraph 3.A.(4) of the Accomplishment Instructions of GE SB No. CF6-80C2 S/B 72-1217, dated July 20, 2006.

CF6-80C2 Series Engines

Stage 1 HPT Rotor Disks, P/N 1531M84G12, With Chamfered Breakedges

(k) For stage 1 HPT rotor disks, P/N 1531M84G12, with SNs listed in Table 6B of this AD, with chamfered breakedges:

(1) With more than 6,900 CSN, perform paragraph (k)(3) at the next ESV, but not to exceed 500 cycles after the effective date of this AD.

(2) With 6,900 CSN or fewer, perform paragraph (k)(3) at the next ESV, but before accumulating 7,400 CSN.

Table 6B.—SNs of CF6-80C2 Series Stage 1 HPT Rotor Disks, P/N 1531M84G12, With Chamfered Breakedges
GWN04CH6
GWN04G5H
GWN04M03

(3) FPI and ECI the rotor disk. Use paragraph 3.A.(3) of the Accomplishment Instructions of GE SB No. CF6-80C2 S/B 72-1217, dated July 20, 2006, to re-mark and inspect the rotor disk, and remove from service as necessary.

Stage 1 HPT Rotor Disks, P/Ns 9392M23G10, G12, G21, 1531M84G02, G06, G08, and 1531M84G10 with SNs not listed in Table 6 and Table 6A of this AD

(l) For stage 1 HPT rotor disks, P/Ns 9392M23G10, G12, G21, 1531M84G02, G06, G08, and 1531M84G10 with SNs not listed in Table 6 and Table 6A of this AD, inspect, rework, and re-mark the disks using paragraphs 3.A.(1) through 3.A.(2) of Accomplishment Instructions of GE SB No. CF6-80C2 S/B 72-1089, Revision 3, dated July 20, 2006, at the following, unless already done using superseded AD 2004-04-07:

(1) For both new and used stage 1 HPT rotor disks not installed in engines, inspect, rework, re-mark, and remove from service as necessary before further flight.

(2) For stage 1 HPT rotor disks that have been inspected before March 12, 2004 (effective date of superseded AD 2004-04-07) using GE ASB No. CF6-80C2 S/B 72-A1024, Revision 1, dated November 3, 2000, or any version of GE ASB No. CF6-80C2 S/B 72-A1026, inspect, rework, re-mark, and remove from service as necessary using the compliance times in the following Table 7:

Table 7.—Compliance Times for Inspection and Rework of CF6-80C2 Series Stage 1 HPT Rotor Disks, P/Ns 9392M23G10, G12, G21, 1531M84G02, G06, G08, and 1531M84G10 With SNs Not Listed in Table 6 and Table 6A of This AD—Previously Inspected
Stage 1 HPT rotor disk cycles-since-last-inspection (CSLI) on March 12, 2004 (effective date of superseded AD 2004-04-07) | Compliance time for inspection and rework
(i) More than 1,500 CSLI | At the next ESV after March 12, 2004 (effective date of superseded AD 2004-04-07), but not to exceed 4,500 CSLI.
(ii) 1,500 CSLI or fewer | At the next ESV after March 12, 2004 (effective date of superseded AD 2004-04-07), but not to exceed 3,500 CSLI.

(3) For stage 1 HPT rotor disks that have not been inspected before March 12, 2004 (effective date of superseded AD 2004-04-07) using GE ASB No. CF6-80C2 S/B 72-A1024, Revision 1, dated November 3, 2000, or any version of GE ASB No. CF6-80C2 S/B 72-A1026, inspect, rework, re-mark, and remove from service as necessary using the following Table 8 or Table 8A compliance times, whichever occurs first:

Table 8.—Compliance Times for Inspection and Rework of CF6-80C2 Series Stage 1 HPT Rotor Disks, P/Ns 9392M23G10, G12, G21, 1531M84G02, G06, G08, and 1531M84G10 With SNs Not Listed in Table 6 and Table 6A of This AD—Not Previously Inspected
Stage 1 HPT rotor disk cycles-since-new (CSN) on the effective date of this AD | Compliance time for inspection and rework
(i) 9,000 or more CSN | Within 250 CIS after the effective date of this AD, or by March 31, 2007, whichever occurs first.
(ii) 6,900 or more but fewer than 9,000 CSN | Within 500 CIS after the effective date of this AD, but before accumulating 9,250 CSN, or by December 31, 2007, whichever occurs first.
(iii) Fewer than 6,900 CSN | Before accumulating 7,400 CSN, or by December 31, 2008, whichever occurs first.

Table 8A.—Compliance Times for Inspection and Rework of CF6-80C2 Series Stage 1 HPT Rotor Disks, P/Ns 9392M23G10, G12, G21, 1531M84G02, G06, G08, and 1531M84G10 With SNs Not Listed in Table 6 and Table 6A of This AD—Not Previously Inspected
Stage 1 HPT rotor disk CSN on March 12, 2004 (effective date of superseded AD 2004-04-07) | Compliance time for inspection and rework
(i) 10,000 or more CSN | At the next ESV or within 1,000 CIS after March 12, 2004 (effective date of superseded AD 2004-04-07), whichever occurs first.
(ii) 5,000 or more CSN but fewer than 10,000 CSN | At the next ESV or within 2,400 CIS after March 12, 2004 (effective date of superseded AD 2004-04-07), but before accumulating 11,000 CSN.
(iii) Fewer than 5,000 CSN | At the next ESV or within 3,500 CIS after March 12, 2004 (effective date of superseded AD 2004-04-07), whichever occurs first, but before accumulating 7,400 CSN.

Stage 1 HPT Rotor Disks, P/N 1862M23G01

(m) For stage 1 HPT rotor disk, P/N 1862M23G01, remove the disk from service at the following times:

(1) For stage 1 HPT rotor disks not installed in engines, remove from service as necessary before further flight.

(2) For stage 1 HPT rotor disks that have been inspected before March 12, 2004 (effective date of superseded AD 2004-04-07), using any version of GE ASB No. CF6-80C2 S/B 72-A1026, and had more than zero CSN at the time of that inspection, remove from service at next ESV.

(3) For stage 1 HPT rotor disks that have not been inspected, or were only inspected with zero CSN before March 12, 2004 (effective date of superseded AD 2004-04-07), using any version of GE ASB No. CF6-80C2 S/B 72-A1026, remove from service using the following Table 9 or Table 9A compliance times, whichever occurs first:

Table 9.—Compliance Times for Removal of CF6-80C2 Series Stage 1 HPT Rotor Disks, P/N 1862M23G01—Not Previously Inspected
Stage 1 HPT rotor disk CSN on the effective date of this AD | Compliance time for removal
(i) 9,000 or more CSN | Within 250 CIS after the effective date of this AD, or by March 31, 2007, whichever occurs first.
(ii) 6,900 or more but fewer than 9,000 CSN | Within 500 CIS after the effective date of this AD, but before accumulating 9,250 CSN, or by December 31, 2007, whichever occurs first.
(iii) Fewer than 6,900 CSN | Before accumulating 7,400 CSN, or by December 31, 2008, whichever occurs first.

Table 9A.—Compliance Times for Removal of CF6-80C2 Series Stage 1 HPT Rotor Disks, P/N 1862M23G01—Not Previously Inspected
Stage 1 HPT rotor disk CSN on March 12, 2004 (effective date of superseded AD 2004-04-07) | Compliance time for removal
(i) 10,000 or more CSN | At the next ESV or within 1,000 CIS after March 12, 2004 (effective date of superseded AD 2004-04-07), whichever occurs first.
(ii) 5,000 or more CSN but fewer than 10,000 CSN | At the next ESV or within 2,400 CIS after March 12, 2004 (effective date of superseded AD 2004-04-07), whichever occurs first, but before accumulating 11,000 CSN.
(iii) Fewer than 5,000 CSN | At the next ESV or within 3,500 CIS after March 12, 2004 (effective date of superseded AD 2004-04-07), whichever occurs first, but before accumulating 7,400 CSN.

CF6-80E1A2, A4 Engines

Stage 1 HPT Rotor Disks, P/N 1639M41P04

(n) For stage 1 HPT rotor disks, P/N 1639M41P04, remove the rotor disks from service using paragraphs 3.A.(1) through 3.A.(2) of Accomplishment Instructions of GE SB No. CF6-80E1 S/B 72-0251, dated January 22, 2004, at the following times:

(1) For stage 1 HPT rotor disks currently in service, remove the disk using the compliance times in the following Table 10 or Table 10A compliance times, whichever occurs first:

Table 10.—Compliance Times for Removal of CF6-80E1 Stage 1 HPT Rotor Disks, P/N 1639M41P04
Stage 1 HPT rotor disk CSN on the effective date of this AD | Compliance Time For Removal
(i) 9,000 or more CSN | Within 250 CIS after the effective date of this AD, or by March 31, 2007, whichever occurs first.
(ii) 6,900 or more but fewer than 9,000 CSN | Within 500 CIS after the effective date of this AD, but before accumulating 9,250 CSN, or by December 31, 2007, whichever occurs first.
(iii) Fewer than 6,900 CSN | Before accumulating 7,400 CSN, or by December 31, 2008, whichever occurs first.

Table 10A.—Compliance Times for Removal of CF6-80E1 Stage 1 HPT Rotor Disks, P/N 1639M41P04
Stage 1 HPT rotor disk CSN on the March 12, 2004 ( effective date of superseded AD 2004-04-07) | Compliance time for removal
(i) More than 10,000 CSN | At the next ESV or within 600 CIS after March 12, 2004 (effective date of superseded AD 2004-04-07), whichever occurs first.
(ii) More than 5,000 CSN but fewer than or equal to 10,000 CSN | At the next ESV or within 2,500 CIS after March 12, 2004 (effective date of superseded AD 2004-04-07), whichever occurs first, but before accumulating 10,600 CSN.
(iii) Fewer than or equal to 5,000 CSN | At the next ESV or within 3,500 CIS after March 12, 2004 (effective date of superseded AD 2004-04-07), whichever occurs first, but before accumulating 7,500 CSN.

(2) After March 12, 2004 (effective date of superseded AD 2004-04-07), do not install any stage 1 HPT rotor disk, P/N 1639M41P04, into any engine.

Definitions

(o) For the purpose of this AD, the following definitions apply:

(1) An engine shop visit (ESV) is when the engine is removed from an aircraft for maintenance and a major engine flange is disassembled. For stage 1 HPT rotor disks that have been inspected using any version of GE SB No. CF6-80A SB 72-0779 or any version of GE ASB No. CF6-80C2 ASB 72-A1026 or GE SB No. CF6-80C2 SB 72-A1024, Revision 1, dated November 3, 2000 or are listed in Table 6A or Table 6B, the following actions, either separately or in combination with each other, are not considered ESVs for the purpose of this AD:

(i) The removal of the upper compressor stator case solely for airfoil maintenance.

(ii) The module level inspection of the high-pressure compressor rotor 3-9 spool.

(iii) The replacement of stage 5 high-pressure compressor variable stator vane bushings or lever arms.

(2) Piece-part exposure is when according to the manufacturer's engine manual or other FAA-approved engine manual the stage 1 HPT rotor disk is considered completely disassembled.

Reporting Requirements

(p) Within five calendar days of the inspection, report the results of inspections that equal or exceed the reject criteria to: Engine Certification Office, FAA, Engine and Propeller Directorate, 12 New England Executive Park, Burlington, MA 01803; telephone (781) 238-7176; fax (781) 238-7199. Reporting requirements have been approved by the Office of Management and Budget and assigned OMB control number 2120-0056. Be sure to include the following information:

(1) Engine model in which the stage 1 HPT rotor disk was installed.

(2) Part Number.

(3) Serial Number.

(4) Part CSN.

(5) Part CSLI.

(6) Date and location where inspection was done.

(q) We request that you record the inspection information and results on GE Form 1653-1, entitled CF6-80A/80C Stage 1 HPT Disk Dovetail Slot Bottom Inspection. This form is available in any version of GE SB CF6-80A S/B 72-0779, or GE ASB CF6-80C2 S/B 72-A1026. We also request that a copy of the data be sent to GE Airline Support Engineering, General Electric Aircraft Engines, Customer Support Center, 1 Neumann Way, Mail Drop RM285, Cincinnati, OH 45215.

Alternative Methods of Compliance

(r) The manager, Engine Certification Office, has the authority to approve alternative methods of compliance for this AD if requested using the procedures found in 14 CFR 39.19.

Material Incorporated by Reference

(s) You must use the service information specified in Table 11 to perform the actions required by this AD. The Director of the Federal Register previously approved the incorporation by reference of General Electric Service Bulletins No. CF6-80E1 S/B 72-0251, dated January 22, 2004 and No. CF6-80A S/B 72-0779, Revision 1, dated January 22, 2004, and Alert Service Bulletin No. CF6-80C2 S/B 72-A1026, Revision 2, dated January 22, 2004, as of March 12, 2004 (69 FR 8801, February 26, 2004). The Director of the Federal Register approved the incorporation by reference of the other documents listed in Table 11 of this AD in accordance with 5 U.S.C. 552(a) and 1 CFR part 51. You can get a copy from General Electric Company via Lockheed Martin Technology Services, 10525 Chester Road, Suite C, Cincinnati, Ohio 45215, telephone (513) 672-8400, fax (513) 672-8422. You may review copies at the FAA, New England Region, Office of the Regional Counsel, 12 New England Executive Park, Burlington, MA; or at the Office of the Federal Register, 800 North Capitol Street, NW, Suite 700, Washington, DC. Table 11 follows:

Table 11.—Incorporation by Reference
Service Bulletin No. | Page | Revision | Date
GE SB No. CF6-80E1 S/B 72-0251 | All | Original | January 22, 2004.
Total Pages: 4 |  |  |
GE SB No. CF6-80A S/B 72-0779 | ALL | 1 | January 22, 2004.
Total Pages: 34 |  |  |
GE SB No. CF6-80A S/B 72-0788 | ALL | 3 | July 20, 2006.
Total Pages: 11 |  |  |
GE ASB No. CF6-80C2 S/B 72-A1026 | ALL | 2 | January 22, 2004.
Total Pages: 38 |  |  |
GE SB No. CF6-80C2 S/B 72-1089 | ALL | 3 | July 20, 2006.
Total Pages: 11 |  |  |
GE SB No. CF6-80C2 S/B 72-1217 | ALL | Original | July 20, 2006.
Total Pages: 12 |  |  |
GE SB No. CF6-80A S/B 72-0822 | ALL | Original | July 20, 2006.
Total Pages: 10 |  |  |

Related Information

(t) GE ASB No. CF6-80C2 S/B 72-A1024, Revision 1, dated November 3, 2000 also pertains to the subject of this AD.

Issued in Burlington, Massachusetts, on August 10, 2006.
Francis A. Favara,
Manager, Engine and Propeller Directorate, Aircraft Certification Service.

[FR Doc. E6-13437 Filed 8-17-06; 8:45 am]

BILLING CODE 4910-13-P